DEPARTMENT OF THE TREASURY

Internal Revenue Service

26 CFR Part 301

[TD 8697]

RIN 1545-AT91

Simplification of Entity Classification Rules; Correction

AGENCY: Internal Revenue Service (IRS), Treasury.

ACTION: Correcting amendment.

SUMMARY: This document contains a correction to final regulations (TD 8697), that were published in the Federal Register on Wednesday, December 18, 1996 (61 FR 66584). The final regulations classify certain business organizations under an elective regime.

DATES: This correction is effective on April 4, 2008 and is applicable on January 1, 1997.

FOR FURTHER INFORMATION CONTACT: Stephen J. Hawes, (202) 622-3860 (not a toll-free number).

SUPPLEMENTARY INFORMATION:

Background

The final regulations (TD 8697) that is the subject of this correction is under section 7701 of the Internal Revenue Code.

Need for Correction

As published, TD 8697 contains an error that may prove to be misleading and is in need of clarification.

List of Subjects 26 CFR Part 301

Employment taxes, Estate taxes, Excise taxes, Gift taxes, Income taxes, Penalties, Reporting and recordkeeping requirements.

Correction of Publication

Accordingly, 26 CFR part 301 is corrected by making the following correcting amendment:

PART 301—PROCEDURE AND ADMINISTATION

Paragraph 1. The authority citation for part 301 continues to read in part as follows:

Authority: 26 U.S.C. 7805 * * *

Par. 2. Section 301.7701-2(b)(8)(i) is amended by revising the entry for “Romania, Societe pe Actiuni” to read as follows:

§ 301.7701-2 Business entities; definitions.

* * * * *

(b) * * *

(8) * * *

(i) * * *

Romania, Societate pe Actiuni

* * * * *

Cynthia E. Grigsby,
Senior Federal Register Liaison Officer, Publications and Regulations Branch, Legal Processing Division, Associate Chief Counsel, (Procedure and Administration).

[FR Doc. E8-6734 Filed 4-3-08; 8:45 am]

BILLING CODE 4830-01-P